DEPARTMENT OF AGRICULTURE

Forest Service

Trout-West Fuels Reduction Project, Pike and San Isabel National Forests, Teller, Douglas and El Paso Counties, Colorado

AGENCY: Forest Service, United States Department of Agriculture (USDA-FS).

ACTION: Notice of intent to prepare an environmental impact statement.

SUMMARY: The USDA-FS will prepare an Environmental Impact Statement (EIS) to analyze and disclose the potential impacts of a site-specific proposal to reduce hazardous fuels on National Forest Lands in the Trout-West area. Management direction guiding the proposed project is contained within the 1984 Pike and San Isabel National Forests; Comanche and Cimarron National Grasslands Land and Resource Management Plan, and the 2000 National Fire Plan. The National Fire Plan identified Woodland Park, Colorado as an urban interface community at risk from catastrophic wildfire. The proposed project is intended to decrease the threat of wildfire to Woodland Park and surrounding communities by reducing hazardous fuels within the urban interface and municipal watershed. Approximately 32,000 acres are proposed for treatment. This proposal is scheduled for implementation for ten years following the issuance of a Record of Decision (ROD), approximately 2003 to 2013.

DATES: Issues and comments concerning the Proposed Action must be received in writing before February 8, 2002. Correspondence should be addressed to Rochelle Desser, Trout West Team Leader, 201 Caves Highway, Cave Junction, OR 97523.

FOR FURTHER INFORMATION CONTACT: Rochelle Desser in Oregon at 541-592-4075 (rdesser@fs.fed.us) or Bob Post at Fairplay, Colorado, 719-836-2031, (bpost@fs.fed.us). Information about the project will be posted on the Pike-San Isabel National Forest Web site: (http://www.fs.fed.us/r2/psicc/pp/).

SUPPLEMENTARY INFORMATION: The Trout and West Creek Watersheds contain approximately 137,990 acres, located within all or parts of T.9S, R.68W; T.9S, R69W; T.9S, R70W; / T.10S, R.68W; T.10S, R69W; T.10S, R70W; / T.11S, R.68W; T.11S, R69W; T.11S, R.70W; T.11S, R.71W; / T.12S, R.68W; T.12S, R69W; T.12S, R.70W; T.12S, R.71W; / T.13S, R.69W; T.13S, R.70W. The analysis area boundary is bordered to the north by Devils Head Peak and a ridge between Ruby and Bridge Gulch, the eastern boundary is the Rampart Range Road, the southern boundary is bordered by Raspberry Mountain, and the western boundary is just west along County Road 51 to County Road 3 and following north to the west side of Sheepnose Mountain and Thunder Butte connecting at the confluence of Trout and West creek.

The Purpose and Need for the Proposed Action is to decrease the threat of wildfire to Woodland Park and neighboring communities by reducing hazardous fuels within the urban interface and adjacent National Forest lands. Project goals include promoting sustainable forest conditions; encouraging aspen regeneration; reducing risk of erosion and sediment to streams; maintaining municipal water quality; maintaining quality of life; and meeting Forest Plan Standards and Guidelines.

A mix of fuel treatments is proposed across seven project areas within the Trout and West Creek Watersheds including thinning, machine and hand slash piling, and prescribed burning. Private land including developed subdivisions occurs within the seven project areas, however only National Forest within these project areas is considered for treatment. These treatments are intended to reduce the canopy closure, continuity and overall biomass to create more moderate fire behavior if a wildfire were to start in the area.

Some of the trees that need to be cut may be sold as fuel wood, Christmas trees, post and poles, and/or saw logs; however, many areas are not expected to yield a commercial byproduct.

The EIS will analyze the potential effects of the Proposed Action on physical, biological, and social issues including ecosystem health, fuel loading and fire risk, soil and water, air quality, species viability, noxious weeds, cultural resources, and economics. Additional issues may be identified through the scoping process. The Forest Service will develop alternatives to respond to significant issues with the Proposed Action. A no action alternative will be considered.

Public participation is important throughout the analysis. The first time is during the scoping period, when the Forest Service invites input from Federal, State, and local agencies, Indian tribes, and other individuals who may be interested in or affected by the Proposed Action. Please refer to the Council on Environmental Quality Regulations for implementing the procedural provisions of the National Environment Policy Act at 40 CFR 1501.7 for more information about scoping.

The Draft EIS is expected to be filed with the Environmental Protection Agency (EPA) and be available for review June 2002. A comment period for the Draft EIS will be 45 days from the date that the EPA published the Notice of Availability for appears in the Federal Register.

The Forest Service believes it is important to give Reviewers notice at this early stage of several court rulings related to public participation in the environmental review process. First, a reviewer of a Draft EIS must structure their participation in the environmental review process of the proposal so that it is specific, meaningful, and alerts an agency to the reviewer's position and contentions. Vermont Yankee Nuclear Power Corp. v. NRDC, 435 U.S. 519, 553 (1978). Also, environmental objections that could be raised at the draft EIS stage, but that are not raised until after completion of the final EIS, may be waived or dismissed by the courts. City of Angoon v. Hodel, 803 F.2d. 1016, 1022 (9th Cir. 1986) and Wisconsin Heritages, Inc. v. Harris, 490 F.Supp. 1334, 1338 (E.D. Wis. 1980). Because of these court rulings, it is very important that those interested in this Proposed Action participate by the close of the 60-day comment period so that substantive comments and objectives are made available to the Forest Service at a time when it can meaningfully consider and respond to them in the final EIS. Please refer to the Council on Environmental Quality Regulations for implementing the procedural provisions of the National Environmental Policy Act at 40 CFR 1503.3 for more information about how to comment on the upcoming EIS.

After the 60-day comment period ends on the draft EIS, comments will be considered and analyzed by the Agency in preparing the final EIS. The final EIS is scheduled for completion by September 2002. In the final EIS, the Forest Service is required to respond to substantive comments and responses during the comment period.

The Responsible Official for this project is the Pike and San Isabel National Forests, Cimarron and Comanche National Grasslands National Forest Supervisor. The Responsible Official will document the decision and rationale in a Record of Decision (scheduled for November 2002). The Forest Service decision will be subject to appeal under regulations at 36 CFR 215.

Dated: December 10, 2001.
William A. Wood,
Deputy Forest Supervisor.

[FR Doc. 01-32140 Filed 12-31-01; 8:45 am]

BILLING CODE 3410-11-M